ENVIRONMENTAL PROTECTION AGENCY

40 CFR Part 51

[OAR-2004-0489; FRL-8016-8]

RIN 2060-AN20

Air Emissions Reporting Requirements

AGENCY: Environmental Protection Agency (EPA).

ACTION: Proposed rule; amendments.

SUMMARY: Today's action proposes changes to EPA's emission inventory reporting requirements. The proposed amendments would consolidate, reduce, and simplify the current requirements; add limited new requirements; and provide additional flexibility to States in the way they collect and report emissions data. The proposed amendments would also accelerate the reporting of emissions data to EPA by State and local agencies. The EPA intends to issue final amendments during 2006.

DATES: Comments must be received on or before May 3, 2006. Under the Paperwork Reduction Act, comments on the information collection provisions must be received by OMB on or before February 2, 2006.

The EPA will hold a public hearing on today's proposal only if requested by February 2, 2006.

ADDRESSES: Submit your comments, identified by Docket ID No. OAR-2004-0489, by one of the following methods:

• http://www.regulations.gov. Follow the on-line instructions for submitting comments.

• E-mail: a-and-r-docket@epa.gov.

• Fax: (202) 566-1741.

• Mail: Air Emissions Reporting Requirements Rule, Docket No. OAR-2004-0489, Environmental Protection Agency, Mailcode: 6102T, 1200 Pennsylvania Ave., NW., Washington, DC 20460. In addition, please mail a copy of your comments on the information collection provisions to the Office of Information and Regulatory Affairs, Office of Management and Budget (OMB), Attn: Desk Officer for EPA, 725 17th St., NW., Washington, DC 20503.

• Hand Delivery: EPA Docket Center, 1301 Constitution Avenue, NW., Room B102, Washington, DC. Such deliveries are only accepted during the Docket's normal hours of operation, and special arrangements should be made for deliveries of boxed information.

Instructions: Direct your comments to Docket ID No. OAR-2004-0489. The EPA's policy is that all comments received will be included in the public docket without change and may be made available online at www.regulations.gov, including any personal information provided, unless the comment includes information claimed to be Confidential Business Information (CBI) or other information whose disclosure is restricted by statute. Do not submit information that you consider to be CBI or otherwise protected through regulations.gov, or e-mail. The www.regulations.gov website is “anonymous access” systems, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm. For additional instructions on submitting comments, go to unit I.B of the SUPPLEMENTARY INFORMATION section of this preamble.

Docket: All documents in the docket are listed in the www.regulations.gov index or in hard copy at the Air Emissions Reporting Requirements Rule, Docket No. OAR-2004-0489, EPA/DC, EPA West, Room B102, 1301 Constitution Ave., NW., Washington, DC. The Public Reading Room is open from 8:30 a.m. to 4:30 p.m., Monday through Friday, excluding legal holidays. The telephone number for the Public Reading Room is (202) 566-1744, and the telephone number for the Air Emissions Reporting Requirements Rule, Docket No. OAR-2004-0489 is (202) 566-1742. Although listed in the index, some information is not publicly available, i.e., CBI or other information whose disclosure is restricted by statute. Certain other material, such as copyrighted material, is not placed on the Internet and will be publicly available only in hard copy form.

FOR FURTHER INFORMATION CONTACT: For general questions concerning today's action, please contact Bill Kuykendal, U.S. EPA, Office of Air Quality Planning and Standards, Emissions Monitoring and Analysis Division, Mail Code D205-01, Research Triangle Park, NC, 27711, telephone (919) 541-5372, e-mail at kuykendal.bill@epa.gov. For legal questions, please contact Thomas Swegle, U.S. EPA, Office of General Counsel, Mail Code 2344A, 1200 Pennsylvania Avenue, NW., Washington, DC 20460, telephone (202) 564-5546, e-mail at swegle.thomas@epa.gov.

SUPPLEMENTARY INFORMATION:

I. General Information

A. Does This Action Apply To Me?

Categories and entities potentially regulated by this action include:

Category | NAIC code¹ | Examples of regulated entities
State/local/tribal government | 92411 | State, territorial, and local government air quality management programs. Tribal governments are not affected.
¹ North American Industry Classification System.

This table is not intended to be exhaustive, but rather provides a guide for readers regarding entities likely to be regulated by this action. This action proposes to have States report their emissions to us. It is possible that some States will require facilities within their jurisdictions to report emissions to the States. To determine whether your facility would be regulated by this action, you should examine the applicability criteria in 40 CFR 51.1 of the proposed amendments. If you have any questions regarding the applicability of this action to a particular entity, consult the person listed in the preceding FOR FURTHER INFORMATION CONTACT section.

B. What Should I Consider As I Prepare My Comments for EPA?

1. Expedited Review. To expedite review of your comments by Agency staff, you are encouraged to send a separate copy of your comments, in addition to the copy you submit to the official docket, to Bill Kuykendal, U.S. EPA, Office of Air Quality Planning and Standards, Emissions Monitoring and Analysis Division, Mail Code D205-01, Research Triangle Park, NC 27711, telephone (919) 541-5372, e-mail kuykendal.bill@epa.gov.

2. Submitting CBI. Do not submit CBI to EPA through www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2. Send or deliver information identified as CBI only to the following address: Roberto Morales, U.S. EPA, Office of Air Quality Planning and Standards, Mail Code C404-02, Research Triangle Park, NC 27711, telephone (919) 541-0880, e-mail at morales.roberto@epa.gov, Attention Docket ID No. OAR-2004-0489.

3. Tips for preparing your comments. When submitting comments, remember to:

i. Identify the rulemaking by docket number and other identifying information (subject heading, Federal Register date and page number).

ii. Follow directions—The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow it to be reproduced.

vi. Provide specific examples to illustrate your concerns, and suggest alternatives.

vii. Explain your views as clearly as possible, avoiding the use of profanity or personal threats.

viii. Make sure to submit your comments by the comment period deadline identified.

C. Where Can I Get a Copy of This Document and Other Related Information?

In addition to being available in the docket, an electronic copy of today's proposed amendments is also available on the Worldwide Web (WWW) through the Technology Transfer Network (TTN). Following the Administrator's signature, a copy of the proposed amendments will be placed on the TTN at http://www.epa.gov/ttn/chief. The TTN provides information and technology exchange in various areas of air pollution control. If more information regarding the TTN is needed, call the TTN HELP line at (919) 541-5384. A copy of the proposed amendments and fact sheet will also be posted at http://www.epa.gov/interstateairquality.

D. Will There Be a Public Hearing?

The EPA will hold a public hearing on today's proposal only if requested by February 2, 2006. The request for a public hearing should be made in writing and addressed to Bill Kuykendal at U.S. EPA, Office of Air Quality Planning and Standards, Emissions Monitoring and Analysis Division, Mail Code D205-01, Research Triangle Park, NC 27711. The hearing, if requested, will be held on a date and at a place published in a separate Federal Register notice.

E. How Is This Document Organized?

The information presented in this preamble is organized as follows:

I. General Information

II. Background

A. Existing Emissions Reporting Requirements

B. Proposed Emissions Reporting Requirements

III. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination with Indian Tribal Governments

G. Executive Order 13045: Protection of Children from Environmental Health and Safety Risks

H. Executive Order 13211: Actions that Significantly Affect Energy Supply, Distribution, or Use

I. National Technology Transfer Advancement Act

II. Background

In today's action, the Air Emissions Reporting Requirements (AERR) rule, EPA is proposing to amend the emission inventory reporting requirements in 40 CFR part 51, subpart A and in 40 CFR 51.122. In a related action to today's proposed amendments, EPA has promulgated the Clean Air Interstate Rule (CAIR). The EPA believes that it is essential that achievement of the emissions reductions required by the CAIR be verified on a regular basis. Emissions reporting is the principal mechanism to verify these reductions and to assure the downwind affected States and EPA that the ozone and particulate matter (PM) less than or equal to 2.5 micrometers (PM2.5) transport problems are being mitigated as required by the CAIR. To this end, EPA has promulgated limited new emissions reporting requirements for States under the CAIR. However, in the CAIR, we explained that there are additional reporting requirements that we believe are important and did not finalize under the CAIR. We are proposing these requirements in today's action. The proposed amendments would also remove or simplify some current emissions reporting requirements which we believe are not necessary or appropriate, for reasons explained below.

Because we are proposing to consolidate and harmonize the new emissions reporting requirements proposed today with two pre-existing sets of emissions reporting requirements, we review in today's action the purpose, authority, and history of emissions reporting requirements in general.

Emissions inventories are critical for the efforts of State, local, and Federal agencies to attain and maintain the national ambient air quality standards (NAAQS) that EPA has established for criteria pollutants such as ozone, PM, and carbon monoxide (CO). Pursuant to its authority under sections 110 and 172 of the CAA, EPA has long required State implementation plans (SIPs) to provide for the submission by States to EPA of emissions inventories containing information regarding the emissions of criteria pollutants and their precursors (e.g., volatile organic compounds (VOC)). The EPA codified these requirements in subpart Q of 40 CFR part 51 in 1979 and amended them in 1987.

The 1990 Amendments to the CAA revised many of the provisions of the CAA related to the attainment of the NAAQS and the protection of visibility in Class I areas. These revisions established new periodic emissions inventory requirements applicable to certain areas that were designated nonattainment for certain pollutants. For example, section 182(a)(3)(A) required States to submit an emissions inventory every 3 years for ozone nonattainment areas beginning in 1993. Similarly, section 187(a)(5) required States to submit an inventory every 3 years for CO nonattainment areas. The EPA, however, did not immediately codify these statutory requirements in the CFR, but simply relied on the statutory language to implement them.

In 1998, EPA promulgated the NOX SIP Call which requires the affected States and the District of Columbia to submit SIP revisions providing for nitrogen oxides (NOX) reductions to reduce their adverse impact on downwind ozone nonattainment areas. (See 63 FR 57356, October 27, 1998). As part of that rule, codified in 40 CFR 51.122, EPA established emissions reporting requirements to be included in the SIP revisions required under that action.

Another set of emissions reporting requirements, termed the Consolidated Emissions Reporting Rule (CERR), was promulgated by EPA in 2002, and is codified at 40 CFR part 51, subpart A. (See 67 FR 39602, June 10, 2002). These requirements replaced the requirements previously contained in subpart Q, expanding their geographic and pollutant coverages while simplifying them in other ways.

The principal statutory authority for the emissions inventory reporting requirements outlined in this preamble is found in CAA section 110(a)(2)(F), which provides that SIPs must require “as may be prescribed by the Administrator * * * (ii) periodic reports on the nature and amounts of emissions and emissions-related data from such sources.” Section 301(a) of the CAA provides authority for EPA to promulgate regulations under this provision.¹

¹ Other CAA provisions relevant to these proposed amendments include section 172(c)(3) (provides that SIPs for nonattainment areas must include comprehensive, current inventory of actual emissions, including periodic revisions); section 182(a)(3)(A) (emissions inventories from ozone nonattainment areas); and section 187(a)(5) (emissions inventories from CO nonattainment areas).

A. Existing Emissions Reporting Requirements

At present, the emissions reporting requirements applicable to States are contained in two different locations: subpart A of 40 CFR part 51 (the CERR) and 40 CFR 51.122 in subpart G (the NOX SIP Call reporting requirements). This proposed action would consolidate these sections, with modifications as described below. The proposed modifications are intended to achieve the additional reporting needed to verify the reductions required by the CAIR; harmonize, reduce, and simplify the emissions reporting requirements; and make emissions reporting requirements easier.

Under the NOX SIP Call requirements in 40 CFR 51.122, emissions of NOX for a defined 5-month ozone season (May 1 through September 30) from sources that the State has subjected to emissions control to comply with the requirements of the NOX SIP Call are required to be reported by the affected States to EPA every year. However, emissions of sources reporting directly to EPA as part of the NOX trading program are not required to be reported by the State to EPA every year. The affected States are also required to report ozone season emissions and typical summer day emissions of NOX from all sources every third year (2002, 2005, etc.) and in 2007. This triennial reporting process does not have an exemption for sources participating in the emissions trading programs. Section 51.122 requires that a number of data elements be reported in addition to ozone season NOX emissions. These data elements describe some of the source's specific physical and operational parameters.

Emissions reporting under the NOX SIP Call as first promulgated was required starting for the emissions reporting year 2002, the year prior to the start of the required emissions reductions. The reports are due to EPA on December 31 of the calendar year following the inventory year. For example, emissions from all sources and types in the 2002 ozone season were required to be reported on December 31, 2003. However, because the Court which heard challenges to the NOX SIP Call delayed the implementation by one year to 2004, no State was required to start reporting until the 2003 inventory year. In addition, EPA recently promulgated a rule to subject Georgia and Missouri to the NOX SIP Call with an implementation date of 2007. (See 69 FR 21604, April 21, 2004.) For these States, emissions reporting begins with 2006. The emissions reporting requirements under the NOX SIP Call affect the District of Columbia and 20 States.

As noted above, the other set of emissions reporting requirements is codified at subpart A of part 51. Although entitled the CERR, this rule left in place the separate 40 CFR 51.122 for the NOX SIP Call reporting. The CERR requirements were aimed at obtaining emissions information to support a broader set of purposes under the CAA than were the reporting requirements under the NOX SIP Call. The CERR requirements apply to all States and include the reporting of all criteria pollutants and criteria pollutant precursors.

Like the requirements under the NOX SIP Call, the CERR requires reporting of all sources at 3-year intervals (2002, 2005, etc.). It requires reporting of certain large sources every year. However, the required reporting date under the CERR is 5 months later than under the NOX SIP Call reporting requirements. Also, emissions must be reported by all States for the entire year, for a typical day in winter, and a typical day in summer, but not for the 5-month ozone season as is required by the NOX SIP Call. Finally, the CERR and the NOX SIP Call differ in what non-emissions data elements must be reported.

The final CAIR included three changes to the above described pre-existing emissions reporting requirements. These requirements are as follows:

1. The new States that are subject to the CAIR requirements, but were not subject to the NOX SIP Call requirements, are required to report their NOX emissions for the 5-month (May 1-September 30) ozone season on a triennial basis beginning in 2008.

2. The States that are subject to the CAIR for reasons of PM2.5, must report to EPA a set of specified data elements for all sources each year—regardless of size—subject to new controls adopted specifically to meet the CAIR requirements related to PM2.5, unless the sources participate in an EPA-administered emissions trading program.

3. The requirement of the NOX SIP Call for a special all-sources report by affected States for the year 2007, due December 31, 2008, was eliminated.

B. Proposed Emissions Reporting Requirements

Today's action proposes to further consolidate the detailed requirements for emissions reporting by States entirely into subpart A. The proposed amendments would also harmonize the reporting requirements and reduce and simplify them in several ways. The major changes included in the proposed amendments are described below.

Amendments are proposed to subpart A, which contains 40 CFR 51.1 through 51.50, with conforming amendments to 40 CFR 51.122. The proposed amendments would also add new tables to subpart A of part 51.

• In 40 CFR 51.122, we propose to abolish certain requirements entirely and to replace certain requirements with a cross reference to subpart A so that detailed lists of required data elements appear only in subpart A. As amended, 40 CFR 51.122 would continue to specify what pollutants, sources, and time periods the States subject to the NOX SIP Call must report and when but would no longer list the detailed data elements required for those reports.

• The amended subpart A would list the detailed data elements as well as provide information on submittal procedures, definitions, and other generally applicable provisions.

Taken together, the existing emissions reporting requirements under the NOX SIP Call, CERR and CAIR are already rather comprehensive in terms of the States covered and the information required. Therefore, the practical impact of the changes proposed today is to impose several new requirements and to accelerate the overall calendar for emission reporting.

In all States, we are proposing to expand the definition of what sources must be reported in point source format, so that fewer sources would be included in nonpoint source emissions.² We are proposing to base the requirement for point source format reporting on whether the source is a major source under 40 CFR part 70 for the pollutants for which reporting is required, i.e., for CO, VOC, NOX, sulfur dioxide (SO2), PM2.5, PM10, and ammonia but without regard to emissions of hazardous air pollutants. Currently, the requirement for point source reporting is based on thresholds of actual emissions in the year of the inventory report. While it has always been an option for States to include all such sources, and we know that some States already do, this change may require more sources to be reported as point sources every 3rd year. Affected States will continue to report their actual emissions. The new approach would make it possible to better track changes in source emissions, shutdowns, and startups over time. Because States have an existing list of sources based on 40 CFR part 70 requirements, this approach would result in a more stable universe of reporting point sources, which in turn would facilitate elimination of overlaps and gaps in estimating point source emissions, as compared to nonpoint source emissions. Under this proposal, States would know well in advance of the start of the inventory year which sources would need to be reported. We are proposing that these new requirements begin with the 2008 inventory year, the report for which would be due to EPA by December 31, 2009.

² We use the term “nonpoint source” to refer to a stationary source that is treated for inventory purposes as part of an aggregated source category rather than as an individual facility. In the existing subpart A of part 51, such emissions sources are referred to as “area sources.” However, the term “area source” is used in section 112 of the CAA to indicate a non-major source of hazardous air pollutants, which could be a point source. As emissions inventory activities increasingly encompass both NAAQS-related pollutants and hazardous air pollutants, the differing uses of “area source” can cause confusion. Accordingly, EPA proposes to substitute the term “nonpoint source” for the term “area source” in subpart A and in § 51.122 to avoid confusion.

We received a number of comments on this provision regarding point source format reporting when it was made in the CAIR supplemental proposal. The majority of comments supported changing the definition of a point source for reporting purposes to that in 40 CFR part 70. Some comments in opposition to the supplemental proposal appear to have been based on the impression that EPA was proposing reporting of potential rather than actual emissions, which was not the case. While the status as a major source depends on potential to emit, a State must report actual emissions.

In addition to the new requirements, several proposed changes would alter existing reporting requirements on States or provide them with additional options. These proposed changes are summarized in units II.B.1 through II.B.9 of this preamble.

1. Harmonizing Report Due Dates

The NOX SIP Call rule required the affected States to submit emissions inventory reports for a given ozone season to EPA by December 31 of the following year. The CERR requires similar but not identical reports from all States by the following June 1, five months later. The EPA believes that harmonizing these dates would be efficient for both States and EPA. We are proposing to move the June 1, reporting requirement to the previous December 31. The first reports due under this proposal would be for the year 2008 to be reported by December 31, 2009. We are soliciting comment on an alternative of requiring that point sources be reported on December 31 and other sources on June 1. This approach would eliminate the problem of States having to make two submissions for point sources within a 5-month period and would result in a more timely submission of the emissions information for point sources. A more timely submission would be particularly useful for point sources because point sources generally are the primary subject of control measures in SIPs. The later June 1 submission date for nonpoint sources and mobile sources would allow more time for estimating these emissions sources, which in some cases may require vehicle miles traveled or business activity data that are not available in time for a December 31 submission. In addition, estimating emissions of some types of nonpoint sources requires prior knowledge of emissions and activity levels at point sources of the same industrial type; therefore, it may make sense to stagger the submission deadlines for the different sources.

The EPA solicited comments on a similar provision in the CAIR supplemental proposal. Here, the EPA proposed to harmonize the dates for both the NOX SIP Call and the CERR at 17 months but asked for comments on a 12 month due date. Several comments were received, all favoring harmonizing the report due date at 17 months. Nonetheless, EPA believes that shortening the reporting cycle to 12 months is possible and desirable. EPA's ultimate goal is to complete the NEI within 12 months of the end of a calendar year. This is consistent with recommendations made by external groups (e.g., NARSTO's Improving Emission Inventories for Effective Air Quality Management Across North America http://www.cgenv.com/Narsto/EmissionInventory.html). Meeting this goal will require a reporting due date even early than 12 months. However, since the current reporting due date for the NEI is 17 months, a phased approach with a due date of 12 months for the 2008 NEI and earlier due dates in subsequent cycles is appropriate. EPA is confident that States can meet report due dates of 12 months or earlier. To demonstrate this, EPA is currently working with 10 State and local agencies on the Rapid Inventory Development Pilot. Under this pilot project EPA has received 2004 emission estimates from half of the participating State and local agencies by the end of October 2005 (10 months after the end of the year being inventoried). EPA will issue a report on the results of this pilot study.

2. Accelerating Report Due Dates

The EPA believes that the public is best served by making environmental information available as soon as possible. Therefore, we are proposing that the reporting schedule be further accelerated for the triennial year 2011 and all following years by requiring that point sources be reported within 6 months from the end of the calendar year, i.e., by June 30 of the following year. Reporting on all other sources would be required within 12 months, i.e., by December 31 of the following year. There is precedent for requiring reporting of point source emissions data within 6 months. Beginning with the year 1979, States were required, under subpart Q, to report point source emissions data within 6 months. Moreover, we believe that modern web-based source reporting systems will be able to greatly shorten the time it takes States to get emissions reports from sources. We invite comment on alternative reporting schedules from 6 to 12 months for point sources and from 12 to 17 months for all other sources.

3. Reporting Biogenic Emissions

We are proposing to remove a requirement in the existing CERR for reporting annual and typical ozone season day biogenic emissions. Biogenic emissions are estimated by a computer model using meteorological and land use/land cover data as inputs. Because EPA can develop these data inputs directly without having them reported by State, local and Tribal agencies, we believe the requirement for reporting biogenic emissions serves no useful purpose. This change does not affect our expectation that biogenic emissions be appropriately considered in ozone and PM2.5 attainment demonstrations.

We received a number of comments on this provision when it was made in the CAIR supplemental proposal. All of the comments were in favor of eliminating the biogenic emissions reporting requirement. The EPA is reproposing this change to allow for the maximum opportunity for public comment.

4. Reporting Emission Model Inputs

We are proposing a new provision which would allow States the option of providing emissions inventory estimation model inputs in lieu of actual emissions estimates, for source categories for which prior to the submission deadline EPA develops or adopts suitable emissions inventory estimation models and by guidance defines their necessary inputs. This provision would allow source reporting to take advantage of new emissions estimation tools for greater efficiency, although the States would continue to be required to provide inputs representative of their conditions. If States choose to use this option, EPA will run the emissions model(s) to calculate emissions and will enter the emissions data into the appropriate data base. We propose that this option would be available starting with the reports on 2005 emissions. Furthermore, we invite comment on whether States should be required to provide model inputs for source categories for which they have utilized a widely available emissions model, to improve the transparency of the emission estimates themselves and the overall utility of the submissions in meeting the objectives of the emissions reporting requirements. For example, such inputs would better allow EPA to project future emissions.

We received several comments on this provision in the CAIR supplemental proposal. Most of the comments were in favor of allowing the option of reporting model inputs in lieu of the estimated emissions from the models. However, most of the commenters did not want the reporting of model inputs to become a reporting requirement. Therefore, EPA is reproposing this change to create a State option and inviting comment on making submission of inputs a requirement to allow for the maximum opportunity for public comment.

5. Reporting Summer Day Emissions

We are proposing to retain the requirement for reporting of summer day emissions from all sources (except biogenic sources) at 3-year intervals, but to restrict it to only States with ozone nonattainment areas or States covered by the NOX SIP Call or CAIR. The NOX SIP Call requires the reporting of only NOX emissions for a typical summer day, while the CERR requires the reporting of all criteria pollutants. We propose to restrict the summer day emissions reporting requirement to VOC and NOX emissions, but we invite comment on whether CO emissions should be required also.

We received several comments on this provision when it was made in the CAIR supplemental proposal. Two of the comments supported retaining the requirement that summer day emissions be reported as required by the CERR. Two of the comments supported EPA's proposed revision to the CERR requirement. One State commented that EPA should not require statewide reporting of summer day emissions, unless it could be demonstrated that these emissions contributed to nonattainment within the State or in other States. The EPA is reproposing this change to allow for the maximum opportunity for public comment.

6. Reporting Winter Work Week Day Emissions

We are proposing to delete the existing requirement that all States report emissions for a winter work week day. This requirement was originally aimed at tracking progress towards attainment of the CO NAAQS. We believe applying this requirement to all States is no longer warranted given that CO violations are currently observed in few areas. We believe we can work directly with the few remaining affected States to monitor efforts to attain the CO NAAQS without requiring formal submission of CO inventories.

We received several comments on this provision in the CAIR supplemental proposal. All of the comments were in favor of eliminating the requirement to report emissions for a winter work week day. The EPA is reproposing this change to allow for the maximum opportunity for public comment.

7. New Data Elements

We are proposing to add several required data elements to the existing rule. These are contact name, contact phone number, emission release point type, control status, emission type, and method accuracy description (MAD) codes.

The contact name and phone number are for the lead contact in the organization submitting the data and are needed to ensure that EPA knows who to contact if issues arise with a data submission.

The emission release point type is a code for the physical configuration of the emission release point (e.g., vertical stack, fugitive, etc.). It is needed to correctly model how emissions are released into the atmosphere.

The control status is a code that represents whether emissions reported are controlled or uncontrolled. It is needed to correctly project future emissions and to correctly evaluate the impact of emission control programs. While data elements related to control equipment are already required, they are not adequate since some control approaches do not involve physical equipment, for example low solvent coatings. We also invite comment on whether with this addition the current data elements that describe emissions control equipment type and efficiency are adequate. We believe it is important for States to report on the manner in which sources are currently controlled so that opportunities for developing control strategies and regulatory development can be assessed, but the existing data elements may not be adequate and appropriate for that purpose. The present data elements related to control measures are primary control efficiency, secondary control efficiency, control device type, and rule effectiveness for point sources; and total capture/control efficiency, rule effectiveness, and rule penetration for nonpoint sources and nonroad mobile sources.³

³ Additional information on emissions data elements and the formats and valid codes presently in use for State reporting to EPA is available on the EPA Web site http://www.epa.gov/ttn/chief/nif/index.html.

We received a few comments on this provision when it was made in the CAIR supplemental proposal. One commenter said that current data elements were not adequate to fully characterize control efficiencies but did not suggest any specific changes. Other commenters were concerned about reporting burden and opposed the addition of any further reporting requirements. The EPA is reproposing this change to allow for the maximum opportunity for public comment.

The emission type is a code describing the temporal period of emissions reported (e.g., annually, daily, etc.). It is needed to ensure that emissions estimates are used properly.

The method accuracy (MAD) codes are codes that provide information about geographic coordinates including the collection method, accuracy, and other descriptors. We are proposing adding the MAD codes to this rule because EPA's Latitude/Longitude Data Standard ⁴ requires their collection when latitude and longitude are collected. The MAD codes are horizontal collection method code, horizontal accuracy measure, horizontal reference datum code, reference point code, source map scale number, and coordinate data source code. The EPA believes that many States will be able to report these codes based on existing information. However, in the event that the information needed to report these codes is not available, States will not be required to do additional work since there is a code “don't know.”

⁴ Environmental Data Registry: Latitude/Longitude Standard. 2000. U.S. Environmental Protection Agency. December 11, 2000. http://oasspub.epa.gov/edr/edr_proc_qry.navigate?P_LIST_OPTION_CD=CSDIS&P_REG_AUTH_IDENTIFIER=1&P_DATA_IDENTIFIER=19939&P_VERSION=1.

8. Identification of New Emissions Related Data Requirements

We invite comment on whether or not additional emissions related data should be required. Commenters may choose to discuss how the reporting of new or currently required data may improve the accuracy, consistency and reliability of emissions inventories. If new emissions related data requirements are identified by commenters, then EPA may choose to issue a supplemental proposal for these proposed amendments detailing specific requirements. The EPA urges commenters who wish to suggest other data elements to comment to that effect early in the 120-day comment period, so that EPA has the option of issuing the supplemental proposal while the 120-day comment period is still open.

9. Revisions to Specific Data Elements

The NOX SIP Call rule and the CERR contain detailed lists of required data elements in addition to emissions, and each rule has its own set of definitions. The two sets of data elements overlap but are not identical. The NOX SIP Call rule requires a few more data elements to be reported and defines some data elements differently than the CERR. The EPA has reviewed both lists in light of more recent experiences and insight into the difficulty States face in collecting and submitting these data elements and their utility to EPA, other States, and other users. We are proposing to combine the separate lists of required elements into a single new list of required data elements. A few data elements from the NOX SIP Call are proposed to be eliminated. The NOX SIP Call data elements that we are proposing to eliminate are: “Area Designation,” “Federal ID code (plant),” “Federal ID code (point),” “Federal ID code (process),” “Federal ID code (stack number),” “Maximum design rate,” “Work weekday emissions,” “Secondary control efficiency,” “Source of fuel heat content data,” “Source of activity/throughput data,” “Source of emission factor” and “Source of emissions data.” We propose that these relatively minor changes become applicable starting with the first required emissions reports following the promulgation of the final amendments.

There are a number of data elements required in the proposed amendments on which we invite comment as to whether they should be dropped in the final amendments. These are heat content (fuel), ash content (fuel), sulfur content (fuel) for fuels other than coal, activity/throughput, hours per day in operation, days per week in operation, weeks per year in operation, and start time in the day. These data elements have been carried forward from emissions reporting systems dating back many years. We believe it is appropriate to take comment on their current usefulness and sufficiency.

We received several comments in response to this invitation for comments when it was made in the CAIR supplemental proposal. In general, the comments opposed eliminating these as required data elements. Therefore, EPA is reproposing this change to allow for the maximum opportunity for public comment.

At present, States are required to report three particular data elements for point source stacks: Stack diameter, exit gas velocity, and exit gas flow rate. This is a redundant requirement since any one of these can be calculated from the other two. We invite comment on which if any of these data elements to drop from the required list. Our preference would be to collect the data element that is most closely tied to an actual operating measurement. Alternatively, we may allow States to report either exit gas flow or exit gas velocity, at their option.

We received several comments on this provision when it was made in the CAIR supplemental proposal. In general, the comments favored the elimination of one of these as a required data element. The EPA is reproposing this change to allow for the maximum opportunity for public comment.

Finally, we propose to modify 40 CFR 51.35 to provide that if States obtain one-third of their necessary emissions estimates from point sources and/or prepare one-third of their nonpoint or mobile source emissions estimates each year on a rolling basis, they should submit their data as a single package on the required every 3rd year submission date. The current requirement allows States to report these partial emissions estimates annually as they are completed. Our proposal requires that States accumulate all three years of work and then make a single data submission by the due date for the trienniel emission inventory year.

We received two comments on this provision when it was made in the CAIR supplemental proposal. The comments indicated that additional information is needed to better understand why EPA believes that this change is beneficial. The EPA believes that a single submission would allow States to correct and/or update data prior to submitting it to EPA thereby facilitating a more consistant data set. A single submission would also make it more efficient for EPA to quality assure the complete data set rather than doing it on a piecemeal basis. There would also be increased efficiencies in resolving any identified discrepancies with the States. Therefore, EPA is reproposing this change to allow for the maximum opportunity for public comment.

III. Statutory and Executive Order Reviews

A. Executive Order 12866: Regulatory Planning and Review

Under Executive Order 12866 (58 FR 51735, October 4, 1993), we must determine whether the regulatory action is “significant” and therefore subject to review by the Office of Management and Budget (OMB) and to the requirements of the Executive Order. The Executive Order defines a “significant regulatory action” as one that is likely to result in a rule that may:

(1) Have an annual effect on the economy of $100 million or more or adversely affect in a material way the economy, a sector of the economy, productivity, competition, jobs, the environment, public health or safety, or State, local, or tribal governments or communities;

(2) create a serious inconsistency or otherwise interfere with an action taken or planned by another agency;

(3) materially alter the budgetary impact of entitlements, grants, user fees, or loan programs or the rights and obligations of recipients thereof; or

(4) raise novel legal or policy issues arising out of legal mandates, the President's priorities, or the principles set forth in the Executive Order.

Under the terms of Executive Order 12866, it has been determined that this regulatory action is a “significant regulatory action” because it raises novel legal or policy issues. As such, this action was submitted to OMB for Executive Order 12866 review. Changes made in response to OMB suggestions or recommendations will be documented in the public record.

B. Paperwork Reduction Act

The information collection requirements in the proposed amendments have been submitted for approval to the OMB under the Paperwork Reduction Act, 44 U.S.C. 3501 et seq. The information collection request (ICR) document prepared by EPA has been assigned EPA ICR number 2170.01.

The information collection requirements in the proposed amendments are based on the existing Emission Inventory Reporting Requirements in 40 CFR part 51, subparts A and G. In general, these provisions require each State to compile a statewide inventory of emissions of certain criteria pollutants at least every 3 years for all point, nonpoint, and mobile sources. The information collection requirements for the existing inventory reporting requirements have been approved by OMB under control number 2060-0088.

The information collection requirements in the proposed amendments are mandatory for all States and territories (excluding tribal governments). These requirements are authorized by section 110(a) of the CAA. The reported emissions data are used by EPA to develop and evaluate State, regional, and national control strategies; to assess and analyze trends in criteria pollutant emissions; to identify emission and control technology research priorities; and to assess the impact of new or modified sources within a geographic area. The emission inventory data are also used by States to develop, evaluate, and revise their SIP.

The proposed amendments would add new reporting requirements and would combine these new requirements with existing requirements from the CAIR, CERR, NOX SIP Call, and the Acid Rain Program. Each of these four existing rules has an approved ICR. The current ICRs are: For the CAIR, ICR No. 2152.01; for the CERR, ICR No. 0916.10; for the NOX SIP Call, ICR No. 1857; and for the Acid Rain Program, ICR No. 1633.13.

The proposed changes would reduce the information collection burden for each of the 104 respondents by about 13 labor hours per year from current levels. The annual average reporting burden for this collection (averaged over the first 3 years of this ICR) is estimated to decrease by a total of 1,373 labor hours per year with a decrease in costs of $47,450. From the perspective of the sources reporting to the States, EPA does not believe that there will be any change in reporting burden resulting from AERR because the same universe of sources will be required to report to the States. No capital/startup costs or operation and maintenance costs for monitoring equipment are attributable to the proposed amendments. The only costs associated with the proposed amendments are labor hours associated with collection, management, and reporting of the data through existing systems.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information unless it displays a currently valid OMB control number. The OMB control numbers for EPA's regulations in 40 CFR part 51 are listed in 40 CFR part 9.

To comment on the Agency's need for this information, the accuracy of the provided burden estimates, and any suggested methods for minimizing respondent burden, including the use of automated collection techniques, EPA has established a public docket for the proposed rule, which includes this ICR, under Docket ID number OAR-2004-0489. Submit any comments related to the ICR for these proposed amendments to EPA and OMB. See the ADDRESSES section at the beginning of this notice for where to submit comments to EPA. Send comments to OMB at the Office of Information and Regulatory Affairs, Office of Management and Budget, 725 17th Street, NW., Washington, DC 20503, Attention: Desk Office for EPA. Since OMB is required to make a decision concerning the ICR between 30 and 60 days after January 3, 2006, a comment to OMB is best assured of having its full effect if OMB receives it by February 2, 2006. The final amendments will respond to any OMB or public comments on the information collection requirements contained in this proposal.

C. Regulatory Flexibility Act

The Regulatory Flexibility Act generally requires an agency to prepare a regulatory flexibility analysis of any rule subject to notice and comment rulemaking requirements under the Administrative Procedure Act or any other statute unless the agency certifies that the rule will not have a significant economic impact on a substantial number of small entities. Small entities include small businesses, small not-for-profit enterprises, and small governmental jurisdictions.

For the purposes of assessing the impacts of today's proposed amendments on small entities, small entity is defined as: (1) A small business as defined by the Small Business Administration; (2) a government jurisdiction that is a government of a city, county, town, school district or special district with a population of less than 50,000; and (3) a small organization that is any not-for-profit enterprise which is independently owned and operated and that is not dominant in its field.

After considering the economic impacts of today's proposed amendments on small entities, I certify that this action will not have a significant economic impact on a substantial number of small entities. This proposed rule will not impose any requirements on small entities. This action primarily impacts State and local agencies and does not regulate small entities. The proposed amendments would provide States with additional flexibility in how they collect and report emissions data. Rather than entering their emissions data directly, State and local agencies may choose to report the inputs to certain emissions models. We continue to be interested in the potential impacts of the proposed rule on small entities and welcome comments on issues related to such impacts.

D. Unfunded Mandates Reform Act

Title II of the Unfunded Mandates Reform Act of 1995 (UMRA), Public Law 104-4, establishes requirements for Federal agencies to assess the effects of their regulatory actions on State, local, and Tribal governments and the private sector. Under section 202 of the UMRA, EPA generally must prepare a written statement, including a cost-benefit analysis, for proposed and final rules with “Federal mandates” that may result in expenditures to State, local, and Tribal governments, in the aggregate, or to the private sector, of $100 million or more in any 1 year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including Tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

The EPA has determined that the proposed amendments do not contain a Federal mandate that may result in expenditures of $100 million or more for State, local, and Tribal governments, in the aggregate, or the private sector in any 1 year. No significant costs are attributable to the proposed amendments; in fact, the proposed amendments are estimated to decrease costs associated with emissions inventory reporting. Thus, the proposed amendments are not subject to the requirements of sections 202 and 205 of the UMRA. In addition, the proposed amendments do not significantly or uniquely affect small governments because they contain no requirements that apply to such governments or impose obligations upon them. Therefore, the proposed amendments are not subject to section 203 of the UMRA.

E. Executive Order 13132: Federalism

Executive Order 13132 (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

The proposed amendments do not have federalism implications. They would not have substantial direct effects on the States, on the relationship between the national government and the States, or on the distribution of power and responsibilities among the various levels of government, as specified in Executive Order 13132.

F. Executive Order 13175: Consultation and Coordination With Indian Tribal Governments

Executive Order 13175 (65 FR 67249, November 6, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

The proposed amendments do not have Tribal implications. They would not have substantial direct effects on Tribal governments, on the relationship between the Federal government and Indian Tribes, or on the distribution of power and responsibilities between the Federal government and Indian Tribes, as specified in Executive Order 13175. The Tribal Authority Rule means that Tribes cannot be required to report their emissions to us. Thus, Executive Order 13175 does not apply to the proposed amendments.

G. Executive Order 13045: Protection of Children From Environmental Health and Safety Risks

Executive Order 13045: (62 FR 19885, April 23, 1997) applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

The EPA interprets Executive Order 13045 as applying only to those regulatory actions that are based on health or safety risks, such that the analysis required under section 5-501 of the Order has the potential to influence the regulation. The proposed amendments are not subject to Executive Order 13045 because they are not based on health or safety risks.

H. Executive Order 13211: Actions That Significantly Affect Energy Supply, Distribution, or Use

These proposed amendments are not a “significant energy action” as defined in Executive Order 13211, (66 FR 28355, May 22, 2001) because they are not likely to have a significant adverse effect on the supply, distribution, or use of energy. Further, we believe that the proposed amendments are not likely to have any adverse energy effects.

I. National Technology Transfer Advancement Act

Section 112(d) of the National Technology Transfer Advancement Act of 1995 (NTTAA), Public Law 104-113; 15 U.S.C. 272 note) directs EPA to use voluntary consensus standards in its regulatory activities and procurement activities unless to do so would be inconsistent with applicable law or otherwise impractical. Voluntary consensus standards are technical standards (e.g., materials specifications, test methods, sampling procedures, and business practices) that are developed or adopted by one or more voluntary consensus standards bodies. The NTTAA requires EPA to provide Congress, through OMB, explanations when the Agency decides not to use available and applicable voluntary consensus standards.

The proposed amendments do not involve technical standards. Therefore, EPA is not considering the use of any voluntary consensus standards.

List of Subjects in 40 CFR Part 51

Environmental Protection, Administrative practice and procedure, Air pollution control, Intergovernmental relations, Nitrogen oxides, Ozone, Particulate matter, Regional haze, Reporting and recordkeeping requirements, Sulfur dioxide.

Dated: December 22, 2005.
Stephen L. Johnson,
Administrator.

For the reasons stated in the preamble, title 40, chapter I, part 51 of the Code of Federal Regulations is proposed to be amended as follows:

PART 51—[AMENDED]

1. The authority citation for part 51 continues to read as follows:

Authority: 23 U.S.C. 101; 42 U.S.C. 7401-7671q.

Subpart A—[Amended]

2. Subpart A is revised to read as follows:

Subpart A—Air Emissions Reporting Requirements
General Information For Inventory Preparers
Sec.
51.1 Who is responsible for actions described in this subpart?
51.5 What tools are available to help prepare and report emissions data?
51.10 How does my State report emissions that are required by the NOX SIP Call and the Clean Air Interstate Rule?
Specific Reporting Requirements
51.15 What data does my State need to report to EPA?
51.20 What are the emission thresholds that separate point and nonpoint sources?
51.25 What geographic area must my State's inventory cover?
51.30 When does my State report which emissions data to EPA?
51.35 How can my State equalize the emissions inventory effort from year-to-year?
51.40 In what form and format should my State report the data to EPA?
51.45 Where should my State report the data?
51.50 What definitions apply to this subpart?
Tables to Subpart A of Part 51
Table 1 to Subpart A of Part 51. Emission Thresholds by Pollutant (tpy¹) for Treatment of Point Sources as Type A Under 40 CFR 51.30
Table 2a to Subpart A of Part 51. Data Elements For Reporting on Emissions from Point Sources, Where Required by 40 CFR 51.30
Table 2b to Subpart A of Part 51. Data Elements For Reporting on Emissions from Nonpoint Sources and Nonroad Mobile Sources, Where Required by 40 CFR 51.30
Table 2c to Subpart A of Part 51. Data Elements For Reporting on Emissions from Onroad Mobile Sources, Where Required by 40 CFR 51.30

Subpart A—Air Emissions Reporting Requirements General Information for Inventory Preparers

§ 51.1 Who is responsible for actions described in this subpart?

States must inventory emission sources located on non-tribal lands and report this information to EPA.

§ 51.5 What tools are available to help prepare and report emissions data?

We urge your State to use estimation procedures described in documents from the Emission Inventory Improvement Program (EIIP). These procedures are standardized and ranked according to relative uncertainty for each emission estimating technique. Using this guidance will enable others to use your State's data and evaluate its quality and consistency with other data.

§ 51.10 How does my State report emissions that are required by the NOX SIP Call and the Clean Air Interstate Rule?

The District of Columbia and States that are subject to the NOX SIP Call (§ 51.121 of this part) are subject to the emissions reporting provisions of § 51.122 of this part. The District of Columbia and States that are subject to the Clean Air Interstate Rule are subject to the emissions reporting provisions of § 51.125 of this part. This subpart A incorporates the pollutants, source, time periods, and required data elements for both of these reporting requirements.

Specific Reporting Requirements

§ 51.15 What data does my State need to report to EPA?

(a) Pollutants. Report actual emissions of the following (see Definitions in § 51.50 for precise definitions as required):

(1) Required pollutants for triennial reports of annual (12-month) emissions for all sources and every-year reports of annual emissions from Type A sources:

(i) Sulfur dioxide (SO2).

(ii) Volatile organic compounds (VOC).

(iii) Nitrogen oxides (NOX).

(iv) Carbon monoxide (CO).

(v) Lead and lead compounds.

(vi) Primary PM2.5. Emissions of filterable, condensible, and total PM2.5 should be reported, if all are applicable to the source type.

(vii) Primary PM10. Emissions of filterable, condensible, and total PM10 should be reported, if all are applicable to the source type.

(viii) Ammonia (NH3).

(2) Required pollutants for every-year reporting of annual (12-month) emissions for sources controlled to meet the requirements of § 51.123 of this part: NOX.

(3) Required pollutants for every-year reporting of annual (12-month) emissions of sources controlled to meet the requirements of § 51.124 of this part: SO2.

(4) Required pollutants for all reports of ozone season (5 months) emissions: NOX.

(5) Required pollutants for triennial reports of summer day emissions:

(i) NOX.

(ii) VOC.

(6) Required pollutants for every-year reports of summer day emissions: NOX.

(7) A State may at its option include in its emissions inventory reports estimates of emissions for additional pollutants such as other pollutants listed in paragraph (a)(1) of this section or hazardous air pollutants.

(b) Sources. Emissions should be reported from the following sources in all parts of the State, excluding sources located on Tribal lands:

(1) Point.

(2) Nonpoint.

(3) Onroad mobile.

(4) Nonroad mobile.

(c) Supporting information. You must report the data elements in Tables 2a through 2c to subpart A of this part. We may ask you for other data on a voluntary basis to meet special purposes.

(d) Confidential data. We do not consider the data in Tables 2a through 2c to subpart A of this part confidential, but some States limit release of this type of data. Any data that you submit to EPA under this subpart will be considered in the public domain and cannot be treated as confidential. If Federal and State requirements are inconsistent, consult your EPA Regional Office for a final reconciliation.

(e) Option to Submit Inputs to Emission Inventory Estimation Models in Lieu of Emission Estimates. For a given reporting year, EPA may allow States to submit comprehensive input values for models capable of estimating emissions from a certain source type on a national scale, in lieu of submitting the emission estimates otherwise required by this subpart.

§ 51.20 What are the emission thresholds that separate point and nonpoint sources?

(a) All anthropogenic stationary sources must be included in your inventory as either point or nonpoint sources.

(b) Sources which meet the definition of point source in this subpart must be reported as point sources. All pollutants specified in § 51.15(a) of this section must be reported for point sources, not just the pollutant(s) which qualify the source as a point source.

(c) If your State has lower emission reporting thresholds for point sources than paragraph (b) of this section, then you may use these in reporting your emissions to EPA.

(d) All stationary sources that are not subject to reporting as point sources must be reported as nonpoint sources. This includes wild fires and prescribed fires. Episodic wind-generated particulate matter (PM) emissions from sources that are not major sources may be excluded, for example dust lifted by high winds from natural or tilled soil. Emissions of nonpoint sources may be aggregated to the county level, but must be separated and identified by source classification code (SCC). Nonpoint source categories or emission events reasonably estimated by the State to represent a de minimis percentage of total county and State emissions of a given pollutant may be omitted.

§ 51.25 What geographic area must my State's inventory cover?

Because of the regional nature of these pollutants, your State's inventory must be statewide, regardless of any area's attainment status.

§ 51.30 When does my State report which emissions data to EPA?

All States are required to report two basic types of emission inventories to EPA: Every-year Cycle Inventory; and Three-year Cycle Inventory. The sources and pollutants to be reported vary among States.

(a) Every-year cycle. See Tables 2a, 2b, and 2c to subpart A of this part for the specific data elements to report every year.

(1) All States are required to report every year the annual (12-month) emissions of all pollutants listed in § 51.15(a)(1) from Type A (large) point sources, as defined in Table 1 to subpart A of this part. The first every-year cycle inventory will be for the year 2008 and must be submitted to EPA within 12 months, i.e., by December 31, 2009. The same 12-month reporting sequence will apply for the every-year cycle inventories for the years 2009 and 2010, i.e., these inventories must be reported to EPA by December 31, 2010 and December 31, 2011, respectively. Beginning with the year 2011 and for all subsequent every-year cycle inventories, the inventories will be due 6 months following the end of the reporting year, i.e., the 2011 inventory must be reported to EPA by June 30, 2012.

(2) States subject to §§ 51.123 and 51.125 of this part are required to report every year the annual (12-month) emissions of NOX from any point, nonpoint, onroad mobile, or nonroad mobile source for which the State specified control measures in its State Implementation Plan (SIP) submission under § 51.123 of this part. This requirement begins with the 2009 inventory year. This requirement does not apply to any State subject to § 51.123 of this part solely because of its contribution to ozone nonattainment in another State.

(3) States subject to §§ 51.124 and 51.125 of this part are required to report every year the annual (12-month) emissions of SO2 from any point, nonpoint, onroad mobile, or nonroad mobile source for which the State specified control measures in its SIP submission under § 51.124 of this part. This requirement begins with the 2009 inventory year.

(4) States subject to §§ 51.123 and 51.125 of this part are required to report every year the ozone season emissions of NOX and summer day emissions of NOX from any point, nonpoint, onroad mobile, or nonroad mobile source for which the State specified control measures in its SIP submission under § 51.123 of this part. This requirement begins with the 2009 inventory year. This requirement does not apply to any State subject to § 51.123 of this part solely because of its contribution to PM2.5 nonattainment in another State.

(5) States subject to the emission reporting requirements of § 51.122 of this part (the NOX SIP Call) are required to report every year the ozone season emissions of NOX and summer day emissions of NOX from any point, nonpoint, onroad mobile, or nonroad mobile source for which the State specified control measures in its SIP submission under § 51.121(g) of this part. This requirement begins with the inventory year prior to the year in which compliance with the NOX SIP Call requirements is first required.

(6) If sources report SO2 and NOX emissions data to EPA in a given year pursuant to a trading program approved under § 51.123(o) or § 51.124(o) of this part or pursuant to the monitoring and reporting requirements of 40 CFR part 75, then the State need not provide annual reporting of the pollutants to EPA for such sources. If SO2 and NOX are the only pollutants required to be reported for the source for the given calendar year and emissions period (annual, ozone season, or summer day), all data elements for the source may be omitted from the State's emissions report for that period. We will make both the raw data submitted by sources to the trading programs and summary data available to any State that chooses this option.

(7) In years which are reporting years under the 3-year cycle, the reporting required by the 3-year cycle satisfies the requirements of this paragraph.

(b) Three-year cycle. See Tables 2a, 2b and 2c to subpart A of this part for the specific data elements that must be reported triennially.

(1) All States are required to report for every 3rd year the annual (12-month) emissions of all pollutants listed in § 51.15(a)(1) from all point sources, nonpoint sources, onroad mobile sources, and nonroad mobile sources. The first 3-year cycle inventory will be for the year 2008 and must be submitted to us within 12 months, i.e., by December 31, 2009. Subsequent 3-year cycle (2011 and following) inventories will be due as required in paragraphs (b)(1)(i) and (ii) of this section:

(i) Point Sources—due six months after the end of the reporting year, i.e., the point source component for the 3-year cycle inventory year 2011 must be reported to EPA by June 30, 2012.

(ii) Nonpoint sources, onroad mobile sources, and nonroad mobile sources—due twelve months after the end of the reporting year, i.e., the nonpoint sources, onroad mobile sources, and nonroad mobile sources components for the 3-year cycle inventory year 2011 must be reported to EPA by December 31, 2012.

(2) States subject to § 51.122 of this part must report ozone season emissions and summer day emissions of NOX from all point sources, nonpoint sources, onroad mobile sources, and nonroad mobile sources. The first 3-year cycle inventory will be for the year 2008 and must be submitted to EPA within 12 months, i.e., by December 31, 2009. Subsequent 3-year cycle inventories will be due as specified under paragraph (b)(1) of this section.

(3) States subject to §§ 51.123 and 51.125 of this part must report ozone season emissions of NOX and summer day emissions of VOC and NOX from all point sources, nonpoint sources, onroad mobile sources, and nonroad mobile sources. The first 3-year cycle inventory will be for the year 2008 and must be submitted to us within 12 months, i.e., by December 31, 2009. Subsequent 3-year cycle inventories will be due as specified under paragraph (b)(1) of this section. This requirement does not apply to any State subject to § 51.123 of this part solely because of its contribution to PM2.5 nonattainment in another State.

(4) Any State with an area for which EPA has made an 8-hour ozone nonattainment designation finding (regardless of whether that finding has reached its effective date) must report summer day emissions of VOC and NOX from all point sources, nonpoint sources, onroad mobile sources, and nonroad mobile sources. The first 3-year cycle inventory will be for the year 2008 and must be submitted to EPA within 12 months, i.e., by December 31, 2009. Subsequent 3-year cycle inventories will be due as specified under paragraph (b)(1) of this section.

§ 51.35 How can my State equalize the emissions inventory effort from year to year?

(a) Compiling a 3-year cycle inventory means more effort every 3 years. As an option, your State may ease this workload spike by using the following approach:

(1) Each year, collect and report data for all Type A (large) point sources (this is required for all Type A point sources).

(2) Each year, collect data for one-third of your nonType A point sources. Collect data for a different third of these sources each year so that data has been collected for all of the nonType A point sources by the end of each 3-year cycle. You must save 3 years of data and then report all of the nonType A point sources on the 3-year cycle due date.

(3) Each year, collect data for one-third of the nonpoint, nonroad mobile, and onroad mobile sources. You must save 3 years of data and then report all of these data on the 3-year cycle due date.

(b) For the sources described in paragraph (a) of this section, your State will therefore have data from 3 successive years at any given time, rather than from the single year in which it is compiled.

(c) If your State chooses the method of inventorying one-third of your smaller point sources and 3-year cycle nonpoint, nonroad mobile, onroad mobile sources each year, your State must compile each year of the 3-year period identically. For example, if a process hasn't changed for a source category or individual plant, your State must use the same emission factors to calculate emissions for each year of the 3-year period. If your State has revised emission factors during the 3 years for a process that hasn't changed, resubmit previous years' data using the revised factor. If your State uses models to estimate emissions, you must make sure that the model is the same for all 3 years.

(d) If your State needs a new reference year emission inventory for a selected pollutant, your State cannot use these optional reporting frequencies for the new reference year.

(e) If your State is a NOX SIP Call State, you cannot use these optional reporting frequencies for NOX SIP Call reporting.

§ 51.40 In what form and format should my State report the data to EPA?

You must report your emission inventory data to us in electronic form. We support specific electronic data reporting formats and you are required to report your data in a format consistent with these. The term format encompasses the definition of one or more specific data fields for each of the data elements listed in Tables 2a, 2b, and 2c to subpart A of this part; allowed code values for categorical data fields; transmittal information; and data table relational structure. Because electronic reporting technology continually changes, contact the EPA Emission Inventory Group (EIG) for the latest specific formats. You can find information on the current formats at the following Internet address: http://www.epa.gov/ttn/chief/nif/index.html. You may also call the air emissions contact in your EPA Regional Office or our Info CHIEF help desk at (919) 541-1000 or e-mail to info.chief@epa.gov.

§ 51.45 Where should my State report the data?

(a) Your State submits or reports data by providing it directly to EPA.

(b) The latest information on data reporting procedures is available at the following Internet address: http://www.epa.gov/ttn/chief. You may also call our Info CHIEF help desk at (919) 541-1000 or e-mail to info.chief@epa.gov.

§ 51.50 What definitions apply to this subpart?

Terms used in this subpart as defined in this section.

Activity throughput means a measurable factor or parameter that relates directly or indirectly to the emissions of an air pollution source during the period for which emissions are reported. Depending on the type of source category, activity information may refer to the amount of fuel combusted, raw material processed, product manufactured, or material handled or processed. It may also refer to population, employment, or number of units. Activity information is typically the value that is multiplied against an emission factor to generate an emissions estimate.

Annual emissions means actual emissions for a plant, point, or process—measured or calculated that represent a calendar year.

Ash content means inert residual portion of a fuel.

Contact name means the complete name of the contact person, including first name, middle name or initial, and surname. Lead contact for the organization transmitting the data set.

Contact phone number means the phone number for the contact name.

Control device type means the name of the type of control device (e.g., wet scrubber, flaring, or process change).

Control status means an indication of whether reported emissions are controlled or uncontrolled.

Day/wk in operations means days per week that the emitting process operates averaged over the inventory period.

Design capacity means a measure of the size of a point source, based on the reported maximum continuous throughput or output capacity of the unit. For a boiler, design capacity is based on the reported maximum continuous steam flow, usually in units of million BTU per hour.

Emission factor means the ratio relating emissions of a specific pollutant to an activity or material throughput level.

Emission release point type means the code for physical configuration of the release point.

Emission type means the code describing temporal designation of emissions reported, i.e., Entire Period, Average Weekday, etc.

Exit gas flow rate means the numeric value of stack gas's flow rate.

Exit gas temperature means the numeric value of an exit gas stream's temperature.

Exit gas velocity means the numeric value of an exit gas stream's velocity.

Facility ID codes means the unique codes for a plant or facility treated as a point source, containing one or more pollutant-emitting units. The EPA's reporting format for a given reporting year may require several facility ID codes to ensure proper matching between data bases, e.g., the State's own current and most recent facility ID codes, the EPA-assigned facility ID codes, and the ORIS (Department of Energy) ID code if applicable.

Fall throughput (percent) means part of the throughput for the three Fall months (September, October, November). This expresses part of the annual activity information based on four seasons—typically spring, summer, fall, and winter. It can be a percentage of the annual activity (e.g., production in summer is 40 percent of the year's production) or units of the activity (e.g., out of 600 units produced, spring = 150 units, summer = 250 units, fall = 150 units, and winter = 50 units).

FIPS Code. Federal Information Placement System (FIPS) is the system of unique numeric codes the government developed to identify States, counties and parishes for the entire United States, Puerto Rico, and Guam.

Heat content means the amount of thermal heat energy in a solid, liquid, or gaseous fuel, averaged over the period for which emissions are reported. Fuel heat content is typically expressed in units of Btu/lb of fuel, Btu/gal of fuel, joules/kg of fuel, etc.

Hr/day in operations means the hours per day that the emitting process operates averaged over the inventory period.

Inventory end date means the last day of the inventory period.

Inventory start date means the first day of the inventory period.

Inventory type means a code indicating whether the inventory submission includes emissions of hazardous air pollutants.

Inventory year means the calendar year for which you calculated emissions estimates.

Lead (Pb) means lead as defined in 40 CFR 50.12. Lead should be reported as elemental lead and its compounds.

Maximum nameplate capacity means a measure of the size of a generator which is put on the unit's nameplate by the manufacturer. The data element is reported in megawatts or kilowatts.

Method accuracy description (MAD) codes means a set of six codes used to define the accuracy of latitude/longitude data for point sources. The six codes and their definitions are:

(1) Coordinate Data Source Code: The code that represents the party responsible for providing the latitude/longitude.

(2) Horizontal Collection Method Code: Method used to determine the latitude/longitude coordinates for a point on the earth.

(3) Horizontal Accuracy Measure: The measure of accuracy (in meters) of the latitude/longitude coordinates.

(4) Horizontal Reference Datum Code: Code that represents the reference datum used to determine the latitude/longitude coordinates.

(5) Reference Point Code: The code that represents the place for which geographic coordinates were established. Code value should be 106 (e.g., point where substance is released).

(6) Source Map Scale Number: The number that represents the proportional distance on the ground for one unit of measure on the map or photo.

Mobile source means a motor vehicle, nonroad engine or nonroad vehicle. A motor vehicle is any self-propelled vehicle used to carry people or property on a street or highway. A nonroad engine is an internal combustion engine (including fuel system) that is not used in a motor vehicle or vehicle only used for competition, or that is not affected by sections 111 or 202 of the CAA. A nonroad vehicle is a vehicle that is run by a nonroad engine and that is not a motor vehicle or a vehicle only used for competition.

Nitrogen oxides (NOX) means nitrogen oxides (NOX) as defined in 40 CFR 60.2 as all oxides of nitrogen except N2O. Nitrogen oxides should be reported on an equivalent molecular weight basis as nitrogen dioxide (NO2).

Nonpoint sources. Nonpoint sources collectively represent individual sources that have not been inventoried as specific point or mobile sources. These individual sources treated collectively as nonpoint sources are typically too small, numerous, or difficult to inventory using the methods for the other classes of sources.

Ozone Season means the period May 1 through September 30 of a year.

Particulate Matter (PM). Particulate matter is a criteria air pollutant. For the purpose of this subpart, the following definitions apply:

(1) Filterable PM2.5 or Filterable PM10: Particles that are directly emitted by a source as a solid or liquid at stack or release conditions and captured on the filter of a stack test train. Filterable PM2.5 is particulate matter with an aerodynamic diameter equal to or less than 2.5 micrometers. Filterable PM10 is particulate matter with an aerodynamic diameter equal to or less than 10 micrometers.

(2) Condensible PM: Material that is vapor phase at stack conditions, but which condenses and/or reacts upon cooling and dilution in the ambient air to form solid or liquid PM immediately after discharge from the stack. Note that all condensible PM, if present from a source, is typically in the PM2.5 size fraction, and therefore all of it is a component of both primary PM2.5 and primary PM10.

(3) Primary PM2.5: The sum of filterable PM2.5 and condensible PM.

(4) Primary PM10: The sum of filterable PM10 and condensible PM.

(5) Secondary PM: Particles that form or grow in mass through chemical reactions in the ambient air well after dilution and condensation have occurred. Secondary PM is usually formed at some distance downwind from the source. Secondary PM should NOT be reported in the emission inventory and is NOT covered by this subpart.

Process classification code (PCC) means a process-level code that describes the equipment or operation which is emitting pollutants. This code is being considered as a replacement for the SCC.

Physical address means the street address of a facility. This is the address of the location where the emissions occur; not, for example, the corporate headquarters.

Point source. For reporting for the years 2008 and following, point sources are large, stationary (non-mobile), identifiable sources of emissions that release pollutants into the atmosphere. As used in this subpart, a point source is a facility that is a major source under section 302 or part D of title I of the CAA. Emissions of hazardous air pollutants are not considered in determining whether a source is a point source under this subpart. For reporting for the years before 2008, point sources are large, stationary (non-mobile), identifiable sources of emissions that release pollutants into the atmosphere. As used in this subpart, a point source is a facility that annually emits more than a “threshold” value. The minimum point source reporting thresholds by pollutant (in tons per year of actual emissions) are:

Pollutant | Annual cycle (type A sources) | Three-year cycle: Type B sources ¹ | Three-year cycle: NAA ²
1. SOX | ≥2500 | ≥100 | ≥100
2. VOC | ≥250 | ≥100 | O3 (moderate) ≥100
3. VOC |  |  | O3 (serious) ≥50
4. VOC |  |  | O3 (severe) ≥25
5. VOC |  |  | O3 (extreme) ≥10
6. NOX | ≥2500 | ≥100 | ≥100
7. CO | ≥2500 | ≥1000 | O3 (all areas) ≥100
8. CO |  |  | CO (all areas) ≥100
9. Pb |  | ≥5 | ≥5
10. PM10 | ≥250 | ≥100 | PM10 (moderate) ≥100
11. PM10 |  |  | PM10 (serious) ≥70
12. PM2.5 | ≥250 | ≥100 | ≥100
13. NH3 | ≥250 | ≥100 | ≥100
¹ Type A sources are a subset of the Type B sources and are the larger emitting sources by pollutant.
² NAA = Nonattainment Area. Special point source reporting thresholds apply for certain pollutants by type of nonattainment area. The pollutants by nonattainment area are: Ozone: VOC, NOX, CO; CO; CO; PM10: PM10.

Pollutant code means a unique code for each reported pollutant assigned by the reporting format specified by EPA for each reporting year.

Primary capture and control efficiencies (percent) means two values indicating the emissions capture efficiency and the emission reduction efficiency of a primary control device. Capture and control efficiencies are usually expressed as a percentage or in tenths.

Process ID code means a unique code for the process generating the emissions, typically a description of a process.

Roadway class means a classification system developed by the Federal Highway Administration that defines all public roadways as to type based on land use and physical characteristics of the roadway.

Rule effectiveness (RE) means how well a regulatory program achieves all possible emissions reductions. This rating reflects the assumption that controls typically are not 100 percent effective because of equipment downtime, upsets, decreases in control efficiencies, and other deficiencies in emission estimates. Rule effectiveness adjusts the control efficiency.

Rule penetration means the percentage of a nonpoint source category covered by an applicable regulation.

SCC means source classification code, a process-level code that describes the equipment and/or operation which is emitting pollutants.

SIC/NAICS means Standard Industrial Classification code/North American Industry Classification System code. The NAICS codes are U.S. Department of Commerce's codes for businesses by products or services and have replaced SIC codes. The NAICS codes must be used exclusively beginning with the 2006 emission inventory year.

Site name means the name of the facility.

Spring throughput (percent) means part of throughput or activity for the three Spring months (March, April, May). See the definition of Fall Throughput.

Stack diameter means a stack's inner physical diameter.

Stack height means a stack's physical height above the surrounding terrain.

Stack ID code means a unique code for the point where emissions from one or more processes release into the atmosphere.

Start time (hour) means Start time (if available) that was applicable and used for calculations of emissions estimates.

Sulfur content means the sulfur content of a fuel, usually expressed as percent by weight.

Summer day emissions means an average day's emissions for a typical summer day with conditions critical to ozone attainment planning. The State will select the particular month(s) in summer and the day(s) in the week to be represented. The selection of conditions should be coordinated with the conditions assumed in the development of reasonable further progress plans, rate of progress plans and demonstrations, and/or emissions budgets for transportation conformity, to allow comparability of daily emission estimates.

Summer throughput (percent) means part of throughput or activity for the three Summer months (June, July, August). See the definition of Fall Throughput.

Total capture and control efficiency (percent) means the net emission reduction efficiency of all emissions collection devices.

Type A source means large point sources with actual annual emissions greater than or equal to any of the emission thresholds listed in Table 1 to subpart A of this part for Type A sources. If a source is a Type A source for any pollutant listed in Table 1, then the emissions for all Table 1 pollutants must be reported for that source.

Unit ID code means a unique code for the unit of generation of emissions, typically a physical piece or closely related set of equipment. The EPA's reporting format for a given reporting year may require multiple unit ID codes to ensure proper matching between data bases, e.g., the State's own current and most recent unit ID codes, the EPA-assigned unit ID codes if any, and the ORIS (Department of Energy) ID code if applicable.

VMT by SCC means vehicle miles traveled disaggregated to the SCC level, i.e., reflecting combinations of vehicle type and roadway class. Vehicle miles traveled expresses vehicle activity and is used with emission factors. The emission factors are usually expressed in terms of grams per mile of travel. Because VMT does not correlate directly to emissions that occur while the vehicle isn't moving, these nonmoving emissions are incorporated into the emission factors in EPA's MOBILE Model.

VOC means volatile organic compounds. The EPA's regulatory definition of VOC is in 40 CFR 51.100.

Winter throughput (percent) means part of throughput or activity for the three Winter months (December, January, February, all from the same year, e.g., Winter 2005 = January 2005 + February, 2005 + December 2005). See the definition of Fall throughput.

Wk/yr in operation means weeks per year that the emitting process operates.

X stack coordinate (longitude) means an object's east-west geographical coordinate.

Y stack coordinate (latitude) means an object's north-south geographical coordinate.

Tables to Subpart A of Part 51

Table 1 to Subpart A of Part 51.—Emission Thresholds by Pollutant (tpy ¹) for Treatment of Point Sources as Type A Under 40 CFR 51.30
Pollutant | Emissions threshold for type A treatment
1. SO2 | ≥2500.
2. VOC | ≥250.
3. NOX | ≥2500.
4. CO | ≥2500.
5. Pb | Does not determine Type A status.
6. PM10 | ≥250.
7. PM2.5 | ≥250.
8. NH3 ² | ≥250.
¹ tpy = Tons per year of actual emissions.
² Ammonia threshold applies only in areas where ammonia emissions are a factor in determining whether a source is a major source, i.e., where ammonia is considered a significant precursor of PM2.5.

Table 2a to Subpart A of Part 51.—Data Elements for Reporting on Emissions From Point Sources, Where Required by 40 CFR 51.30
Data elements | Every-year reporting | Three-year reporting
1. Inventory year | ✔ | ✔
2. Inventory start date | ✔ | ✔
3. Inventory end date | ✔ | ✔
4. Inventory type | ✔ | ✔
5. Contact name | ✔ | ✔
6. Contact phone number | ✔ | ✔
7. FIPS code | ✔ | ✔
8. Facility ID codes | ✔ | ✔
9. Unit ID code | ✔ | ✔
10. Process ID code | ✔ | ✔
11. Stack ID code | ✔ | ✔
12. Site name | ✔ | ✔
13. Physical address | ✔ | ✔
14. SCC or PCC | ✔ | ✔
15. Heat content (fuel) (annual average) | ✔ | ✔
16. Heat content (fuel) (ozone season, if applicable) | ✔ | ✔
17. Ash content (fuel) (annual average) | ✔ | ✔
18. Sulfur content (fuel) (annual average) | ✔ | ✔
19. Pollutant code | ✔ | ✔
20. Activity/throughput (for each period reported) | ✔ | ✔
21. Summer day emissions (if applicable) | ✔ | ✔
22. Ozone season emissions (if applicable) | ✔ | ✔
23. Annual emissions | ✔ | ✔
24. Emission factor | ✔ | ✔
25. Winter throughput (percent) | ✔ | ✔
26. Spring throughput (percent) | ✔ | ✔
27. Summer throughput (percent) | ✔ | ✔
28. Fall throughput (percent) | ✔ | ✔
29. Hr/day in operation | ✔ | ✔
30. Start time (hour) | ✔ | ✔
31. Day/wk in operation | ✔ | ✔
32. Wk/yr in operation | ✔ | ✔
33. X stack coordinate (longitude) |  | ✔
34. Y stack coordinate (latitude) |  | ✔
35. Method accuracy description (MAD) code |  | ✔
36. Stack height |  | ✔
37. Stack diameter |  | ✔
38. Exit gas temperature |  | ✔
39. Exit gas velocity |  | ✔
40. Exit gas flow rate |  | ✔
41. SIC/NAICS and at the facility and unit levels |  | ✔
42. Design capacity (including boiler capacity if applicable) |  | ✔
43. Maximum generator nameplate capacity |  | ✔
44. Primary capture and control efficiencies (percent) |  | ✔
45. Total capture and control efficiency (percent) |  | ✔
46. Control device type |  | ✔
47. Control status |  | ✔
48. Emission type |  | ✔
49. Emission release point type |  | ✔
50. Rule effectiveness (percent) |  | ✔

Table 2b to Subpart A of Part 51.—Data Elements for Reporting on Emissions from Nonpoint Sources and Nonroad Mobile Sources, Where Required by 40 CFR 51.30
Data elements | Every-year reporting | Three-year reporting
1. Inventory year | ✔ | ✔
2. Inventory start date | ✔ | ✔
3. Inventory end date | ✔ | ✔
4. Inventory type | ✔ | ✔
5. Contact name | ✔ | ✔
6. Contact phone number | ✔ | ✔
7. FIPS code | ✔ | ✔
8. SCC or PCC | ✔ | ✔
9. Emission factor | ✔ | ✔
10. Activity/throughput level (for each period reported) | ✔ | ✔
11. Total capture/control efficiency (percent) | ✔ | ✔
12. Rule effectiveness (percent) | ✔ | ✔
13. Rule penetration (percent) | ✔ | ✔
14. Pollutant code | ✔ | ✔
15. Ozone season emissions (if applicable) | ✔ | ✔
16. Summer day emissions (if applicable) | ✔ | ✔
17. Annual emissions | ✔ | ✔
18. Winter throughput (percent) | ✔ | ✔
19. Spring throughput (percent) | ✔ | ✔
20. Summer throughput (percent) | ✔ | ✔
21. Fall throughput (percent) | ✔ | ✔
22. Hrs/day in operation | ✔ | ✔
23. Days/wk in operation | ✔ | ✔
24. Wks/yr in operation | ✔ | ✔

Table 2c.—Data Elements for Reporting on Emissions From Onroad Mobile Sources, Where Required by 40 CFR 51.30
Data elements | Every-year reporting | Three-year reporting
1. Inventory year | ✔ | ✔
2. Inventory start date | ✔ | ✔
3. Inventory end date | ✔ | ✔
4. Inventory type | ✔ | ✔
5. Contact name | ✔ | ✔
6. Contact phone number | ✔ | ✔
7. FIPS code | ✔ | ✔
8. SCC or PCC | ✔ | ✔
9. Emission factor | ✔ | ✔
10. Activity (VMT by SCC) | ✔ | ✔
11. Pollutant code | ✔ | ✔
12. Ozone season emissions (if applicable) | ✔ | ✔
13. Summer day emissions (if applicable) | ✔ | ✔
14. Annual emissions | ✔ | ✔
15. Winter throughput (percent) | ✔ | ✔
16. Spring throughput (percent) | ✔ | ✔
17. Summer throughput (percent) | ✔ | ✔
18. Fall throughput (percent) | ✔ | ✔

Subpart G—[Amended]

3. Section 51.122 is revised to read as follows:

§ 51.122 Emissions reporting requirements for SIP revisions relating to budgets for NOX emissions.

(a) For its transport SIP revision under § 51.121, each State must submit to EPA NOX emissions data as described in this section.

(b) Each revision must provide for periodic reporting by the State of NOX emissions data to demonstrate whether the State's emissions are consistent with the projections contained in its approved SIP submission.

(1) For the every-year reporting cycle, each revision must provide for reporting of NOX emissions data every year as follows:

(i) The State must report to EPA emissions data from all NOX sources within the State for which the State specified control measures in its SIP submission under § 51.121(g). This would include all sources for which the State has adopted measures that differ from the measures incorporated into the baseline inventory for the year 2007 that the State developed in accordance with § 51.121(g).

(ii) If sources report NOX emissions data to EPA for a given year pursuant to a trading program approved under § 51.121(p) or pursuant to the monitoring and reporting requirements of 40 CFR part 75, then the State need not provide an every-year cycle report to EPA for such sources.

(2) For the three-year cycle reporting, each plan must provide for triennial (i.e., every 3rd year) reporting of NOX emissions data from all sources within the State.

(3) The data availability requirements in § 51.116 of this part must be followed for all data submitted to meet the requirements of paragraphs (b)(1) and (2) of this section.

(c) The data reported in paragraph (b) of this section must meet the requirements of subpart A of this part.

(d) Approval of ozone season calculation by EPA. Each State must submit for EPA approval an example of the calculation procedure used to calculate ozone season emissions along with sufficient information to verify the calculated value of ozone season emissions.

(e) Reporting schedules. (1) Data collection is to begin during the ozone season 1 year prior to the State's NOX SIP Call compliance date.

(2) Reports are to be submitted according to paragraph (b) of this section and the schedule in Table 1 of this paragraph (e)(2). After 2011, triennial reports are to be submitted every 3rd year and annual reports are to be submitted each year that a triennial report is not required.

Table 1 to § 51.122(e)(2).—Schedule for Submitting Reports
Data collection year | Type of report required
2005 | Triennial.
2006 | Annual.
2007 | Annual.
2008 | Triennial.
2009 | Annual.
2010 | Annual.
2011 | Triennial.

(3) States must submit data for a required year no later than 12 months after the end of the calendar year for which the data are collected. The first inventory (for the year 2008) must be submitted to EPA within 12 months, i.e., by December 31, 2009. The same 12-month reporting sequence will apply for the inventories for the years 2009 and 2010, i.e., these inventories must be reported to EPA by December 31, 2010 and December 31, 2011 respectively. Beginning with the year 2011, and for all subsequent inventories, the inventories will be due 6 months following the end of the reporting year, i.e., the 2011 inventory must be reported to EPA by June 30, 2012.

(f) Data reporting procedures are given in subpart A. When submitting a formal NOX Budget Emissions Report and associated data, States shall notify the appropriate EPA Regional Office.

(g) As used in this section, words and terms shall have the meanings set forth in § 51.50 of this part.

[FR Doc. 05-24614 Filed 12-30-05; 8:45 am]

BILLING CODE 6560-50-P